DEPARTMENT OF HEALTH AND HUMAN SERVICES

Indian Health Service

Request for Public Comment: 60-Day Proposed Information Collection: Behavioral Health Preventive Care Assessment Focus Group Guide; Correction

ACTION: Notice; correction.

SUMMARY: The Indian Health Service published a document in the Federal Register (FR) on April 29, 2008. The document contained one error.

FOR FURTHER INFORMATION CONTACT: Christina Rouleau, Office of Management Services, Indian Health Service, 801 Thompson Avenue, Suite 450, Rockville, MD 20852, Telephone (301) 443-5938. (This is not a toll-free number.)

Correction

In the Federal Register of April 29, 2008, in FR Doc. E8-9258, on page 23254, in the second column, second paragraph, under SUMMARY, correct Domestic/Intimate Partner Violence screening in women ages 14-15 to read: Domestic/Intimate Partner Violence screening in women ages 15-40.

Dated: May 29, 2008.
Robert G. McSwain,
Director, Indian Health Service.

[FR Doc. E8-12509 Filed 6-4-08; 8:45 am]

BILLING CODE 4165-16-M